LIBRARY OF CONGRESS

Copyright Royalty Board

37 CFR Part 380

[Docket No. 14-CRB-0001-WR (2016-2020) COLA 2019]

Cost of Living Adjustment to Royalty Rates for Webcaster Statutory License; Correction

AGENCY: Copyright Royalty Board (CRB), Library of Congress.

ACTION: Final rule; cost of living adjustment; correction.

SUMMARY: This document corrects the preamble to and one paragraph of the final rule published in the Federal Register of November 28, 2018, regarding the cost of living adjustment (COLA) to the royalty rate that noncommercial noninteractive webcasters pay for eligible transmissions pursuant to the statutory licenses for the public performance of and for the making of ephemeral reproductions of sound recordings.

DATES: Effective Date: January 1, 2019.

FOR FURTHER INFORMATION CONTACT: Anita Blaine, CRB Program Assistant, by telephone at (202) 707-7658 or by email at crb@loc.gov.

SUPPLEMENTARY INFORMATION: The preamble and the regulatory language appearing on page 61125 in the Federal Register of Wednesday, November 28, 2018, reflected an error in calculating the COLA for the rate for noncommercial webcasters, and therefore the Judges make the following corrections to the preamble and the final rule:

Corrections

In FR Doc. 2018-25908 appearing on page 61125 in the Federal Register of Wednesday, November 28, 2018, make the following corrections:

Preamble

1. In the SUPPLEMENTARY INFORMATION section, on page 61125 in the second column, in the third paragraph, “$0.0018” is corrected to read “$0.0017” and in the third column, in the first full paragraph, “$0.0019” is corrected to read “$0.0018”.

Final rule

§ 380.10 [Corrected]

2. On page 61125, in the third column, in § 380.10, in paragraph (a)(2), “$0.0019” is corrected to read “$0.0018”.

Dated: December 3, 2018.
David R. Strickler,
Copyright Royalty Judge.

[FR Doc. 2018-26606 Filed 12-7-18; 8:45 am]

BILLING CODE 1410-72-P